DEPARTMENT OF ENERGY

Federal Energy Regulatory Commission

[Docket No. AD21-9-000]

The Office of Public Participation; Notice of Virtual Listening Sessions and a Public Comment Period

Take notice that the Federal Energy Regulatory Commission (Commission) staff will convene, in the above-referenced proceeding, virtual listening sessions from March 17, 2021 to March 25, 2021, to solicit public input on how the Commission should establish and operate the Office of Public Participation (OPP) pursuant to section 319 of the Federal Power Act (FPA) (16 U.S.C. 825q-1). The public may also submit written comments by April 23, 2021. The listening sessions will be led by Commission staff, and may be attended by one or more Commissioners.

In December 2020, Congress directed the Commission to provide a report, by June 25, 2021, detailing its progress towards establishing the OPP. Section 319 of the FPA directs the Commission to establish the OPP to “coordinate assistance to the public with respect to authorities exercised by the Commission,” including assistance to those seeking to intervene in Commission proceedings. (16 U.S.C. 825q-1). A February 22, 2021 notice announced a Commissioner-led workshop to be held on April 16, 2021, from 9:00 a.m. to 5:00 p.m. Eastern time, and requested speaker nominations by March 10, 2021. The February 22, 2021 notice can be found on the Commission's website and eLibrary.

Commission staff plan to hold listening sessions to hear from several stakeholder groups. The sessions will give members of the public an opportunity to provide their thoughts and ideas on how the Commission should create the OPP to encourage and facilitate public participation. Following a brief introduction from Commission staff, each session will be open to the public for 3-5 minutes of comment per participant. The Commission plans to hold the following sessions:

• Landowners and Communities Affected by Infrastructure Development, Wednesday, March 17, 2021, 1:00 to 2:30 p.m.

• Environmental Justice Communities and Tribal Interests, Monday, March 22, 2021, 1:00 to 2:30 p.m.

• Tribal Governments, Wednesday, March 24, 2021, at 10:00 to 11:30 a.m. (session 1); 1:00 to 2:30 p.m. (session 2).

• Energy Consumers and Consumer Advocates, Thursday, March 25, 2021, 1:00 to 2:30 p.m.

In advance of the listening sessions, participants may wish to consider the issues listed below:

1. Section 319 of the FPA states that the OPP will be administered by a Director. (16 U.S.C. 825q-1(a)(2)(A)). In addition to the Director, how should the office be structured?

2. Should the Commission consider creating an advisory board for OPP? If so, what role would the board serve and who should be on the board?

3. How should the OPP coordinate assistance to persons intervening or participating, or seeking to intervene or participate, in a Commission proceeding?

4. To what extent do you, or the organization you represent, currently interact with the Commission? What has hindered or helped your ability to participate in Commission proceedings?

5. Have you engaged with other governmental entities—such as local, state, and other federal agencies—on matters involving your interests? If so, how did those agencies engage in outreach, and what practices improved your ability to participate in their processes?

6. How should the OPP engage with Tribal Governments, environmental justice communities, energy consumers, landowners, and other members of the public affected by Commission proceedings?

7. Section 319 of the FPA allows the Commission to promulgate rules to offer compensation for attorney fees and other expenses to intervenors and participants who substantially contribute to a significant Commission proceeding if participation otherwise would result in significant financial hardship. (16 U.S.C. 825q-1(b)(2)). How should the Commission approach the issue of intervenor compensation? What should the OPP's role be with respect to intervenor compensation? How should the Commission establish a budget for and fund intervenor compensation? What lessons can the Commission learn from the administration of similar state intervenor compensation programs?

The sessions will be open for the public to attend, and there is no fee for attendance. Listening sessions will be audio-only. Call-in information details, including preregistration, can be found on the OPP website. Information will also be posted on the Calendar of Events on the Commission's website, www.ferc.gov, prior to the event. The listening sessions will be transcribed and placed into the record approximately one week after the session date.

The listening sessions will be accessible under section 508 of the Rehabilitation Act of 1973. For accessibility accommodations, please send an email to accessibility@ferc.gov or call toll free 1-866-208-3372 (voice) or 202-502-8659 (TTY), or send a FAX to 202-208-2106 with the required accommodations.

The public may also submit written comments on these topics to the record in Docket No. AD21-9-000 by Friday, April 23, 2021. Please file comments using the Commission's eFiling system at https://ferconline.ferc.gov/FERCOnline.aspx. For assistance, please contact FERC Online Support at FERCOnlineSupport@ferc.gov, (866) 208-3676 (toll free), or (202) 502-8659 (TTY).

For questions about the listening sessions, please contact Stacey Steep of the Office of General Counsel at (202) 502-8148, or send an email to OPPWorkshop@ferc.gov, and Sarah McKinley, (202) 502-8368, sarah.mckinley@ferc.gov, for logistical issues.

Dated: March 5, 2021.
Kimberly D. Bose,
Secretary.

[FR Doc. 2021-05065 Filed 3-10-21; 8:45 am]

BILLING CODE 6717-01-P